DEPARTMENT OF COMMERCE

National Oceanic and Atmospheric Administration

[I.D. 060903B]

Marine Mammals; File No. 848-1695

AGENCY: National Marine Fisheries Service (NMFS), National Oceanic and Atmospheric Administration (NOAA), Commerce.

ACTION: Issuance of permit.

SUMMARY: Notice is hereby given that the Marine Mammal Research Program, Pacific Islands Fisheries Science Center, Honolulu Laboratory, 2570 Dole Street, Honolulu, HI 96822 (Principal Investigator, Dr. Bud Antonelis), has been issued a permit to take Hawaiian monk seals (Monachus schauinslandi) for purposes of scientific research and enhancement.

ADDRESSES: The permit and related documents are available for review upon written request or by appointment in the following office(s):

Permits, Conservation and Education Division, Office of Protected Resources, NMFS, 1315 East-West Highway, Room 13705, Silver Spring, MD 20910; phone (301)713-2289; fax (301)713-0376; and

PProtected Species Coordinator, Pacific Islands Regional Office, NMFS, 1601 Kapiolani Blvd., Rm, 1110, Honolulu, HI 96814-4700; phone (808)973-2935; fax (808)973-2941.

FOR FURTHER INFORMATION CONTACT: Amy Sloan or Ruth Johnson, (301)713-2289.

SUPPLEMENTARY INFORMATION: On January 22, 2003, notice was published in the Federal Register (68 FR 3015) that a request for a scientific research and enhancement permit to take the species identified above had been submitted by the above-named organization. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

The permit authorizes the Holder to take Hawaiian monk seals in the Hawaiian Archipelago and Johnston Atoll over a 5-year period for purposes of (1) population assessment (ground monitoring and aerial surveys, flipper tagging and retagging, bleach marking, genetics analyses) to determine survivorship, reproductive rates, pup production, incidence and causes of injury or mortality, and abundance; (2) disease and health assessment (health screening of healthy and ill animals, lancing of abscesses, analyses of parasites, dietary analyses, satellite and VHF tag deployment, euthanasia of moribund animals, necropsies) to gain information on pathogens and other factors that affect individual animals; and (3) recovery actions (relocations and translocations of pups and juveniles, adult male removals, and disentanglements) to enhance the survival of the population.

An unlimited number of specimens (hard and soft parts including but not limited to blood serum, blubber biopsy, and placentae) may be exported to countries (including but not limited to Canada, the Netherlands, Scotland, and Australia) for scientific analyses related to health assessment of monk seals; samples not used in analyses may be re-imported. An unlimited number of specimens (hard and soft parts) from Mediterranean monk seals (Monachus monachus) may be imported to the U.S. and re-exported to the country of origin for opportunistic research related to the conservation of monk seals.

Issuance of this permit, as required by the ESA, was based on a finding that such permit (1) was applied for in good faith, (2) will not operate to the disadvantage of the endangered species which is the subject of this permit, and (3) is consistent with the purposes and policies set forth in section 2 of the ESA.

Dated: June 10, 2003.
Stephen L. Leathery,
Chief, Permits, Conservation and Education Division, Office of Protected Resources, National Marine Fisheries Service.

[FR Doc. 03-15803 Filed 6-20-03; 8:45 am]

BILLING CODE 3510-22-S